DEPARTMENT OF COMMERCE

National Oceanic and Atmospheric Administration

RIN 0648-XD711

Marine Mammals; File No. 18881

AGENCY: National Marine Fisheries Service (NMFS), National Oceanic and Atmospheric Administration (NOAA), Commerce.

ACTION: Notice; issuance of permit.

SUMMARY: Notice is hereby given that a permit has been issued to Texas Sealife Center, 14220 South Padre Island Drive, Corpus Christi, TX 78418, [Responsible Party: Tim Tristan] to conduct research on bottlenose dolphins (Tursiops truncatus).

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Hapeman or Howard Goldstein, (301) 427-8401.

SUPPLEMENTARY INFORMATION: On February 13, 2015, notice was published in the Federal Register (80 FR 8060) that a request for a permit to conduct research on the species identified above had been submitted by the above-named applicant. The requested permit has been issued under the authority of the Marine Mammal Protection Act of 1972, as amended (16 U.S.C. 1361 et seq.), and the regulations governing the taking and importing of marine mammals (50 CFR part 216).

The applicant has been issued a permit to conduct research on bottlenose dolphins in the bay, sound, estuary and near-shore coastal waters of Texas in the northwestern Gulf of Mexico. The purpose of the research is to: (1) Develop and maintain standardized photo-identification catalogs; (2) characterize fine-scale population structure and dynamics; (3) estimate abundance for strategic stocks; (4) establish baseline patterns of distribution, habitat use, site-fidelity, diet, and contaminant loads; (5) analyze dolphin behavior in relation to anthropogenic activities; and (6) identify potential risks to the population. Researchers may conduct vessel surveys for photographic identification, focal follows, behavioral observation, and biopsy sampling. The permit is valid through April 30, 2020.

In compliance with the National Environmental Policy Act of 1969 (42 U.S.C. 4321 et seq.), a final determination has been made that the activity proposed is categorically excluded from the requirement to prepare an environmental assessment or environmental impact statement.

Dated: April 28, 2015.
Julia Harrison,
Chief, Permits and Conservation Division, Office of Protected Resources, National Marine Fisheries Service.

[FR Doc. 2015-10185 Filed 4-30-15; 8:45 am]

BILLING CODE 3510-22-P